DEPARTMENT OF HOMELAND SECURITY

Transportation Security Administration

Notice of Intent To Request Approval From the Office of Management and Budget (OMB) of One Public Collection of Information; Law Enforcement Officer Flying Armed Training and Certification

AGENCY: Transportation Security Administration (TSA), DHS.

ACTION: Notice.

SUMMARY: TSA invites public comment on a new information collection requirement abstracted below that will be submitted to OMB for approval in compliance with the Paperwork Reduction Act.

DATES: Send your comments by March 28, 2005.

ADDRESSES: Comments may be mailed or delivered to Katrina Wawer, Information Collection Specialist, Office of Transportation Security Policy, TSA-9, Transportation Security Administration, 601 South 12th Street, Arlington, VA 22202-4220.

FOR FURTHER INFORMATION CONTACT: Katrina Wawer at the above address or by telephone (571) 227-1995 or facsimile (571) 227-2594.

SUPPLEMENTARY INFORMATION: In accordance with the Paperwork Reduction Act of 1995, (44 U.S.C. 3501 et seq.), an agency may not conduct or sponsor, and a person is not required to respond to a collection of information, unless it displays a valid OMB control number. Therefore, in preparation for submission to renew clearance of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Purpose of Data Collection

TSA is requesting the collection of this information to comply with 49 CFR 1544.219, which requires Federal and state law enforcement officers (LEOs) that are flying armed with a firearm to complete the Flying Armed Training course. TSA assumed responsibility for the LEO Flying Armed Training course under Section 107(a) of the Aviation and Transportation Security Act (ATSA) (Pub. L. 107-71) (codified at 49 U.S.C. 44918 Crew Training). The course is a non-tactical overview of the conditions under which an officer may fly armed with a firearm, their expected behavior while flying armed, and the scope of their authority while in the air. After training is completed, TSA will solicit written feedback from the LEOs using a TSA training evaluation form. This collection would permit TSA to collect identifying information from LEOs who register for this training course and to solicit voluntary feedback from the participants on the quality of training.

Description of Data Collection

Identifying information would be gathered from LEOs who have registered for the LEO Flying Armed Training program to confirm that they are eligible for this program (i.e., that they are active law enforcement officers who have an operational need to fly armed and receive the training). The course will be offered to Federal law enforcement agencies via CD-ROM or at the basic training course that LEOs attend at Federal training academies, such as the Federal Law Enforcement Training Center (FLETC) and the FBI and the Drug Enforcement Administration (DEA) Academies in Quantico, Virginia.

For state and local LEOs, the course will be offered on a secure site over the Internet. State and local LEOs will be required to log onto the FLETC website, which will provide a link to the TSA LEO Flying Armed website. TSA will collect information when they register for the course and then maintain a record of successful completion, which is verified with a certificate the LEO will show at the airport-screening checkpoint.

If the TSA agent on site doubts a LEO's authenticity when the LEO presents his or her credentials at the airport to fly, the TSA agent on site will contact the TSA's Transportation Security Operations Center (TSOC), , for identity verification. To verify the LEO's identity, the TSOC representative will direct the TSA agent to ask the LEO a series of questions, which the LEO was required to answer during the course registration (e.g., Where is your high school located?).

After training is completed, TSA would solicit written feedback from the LEO training using a TSA training evaluation form. Completion of the form would be voluntary and anonymous. TSA proposes an annual certification for this training process. The number of potential respondents is 40,000 LEOs. The estimated annual reporting burden is 7500 hours annually with an estimated annual cost burden of $673,248.

Use of Results

TSA Headquarters and authorized airport personnel (airport screeners) will use the registration information to verify the need and identities of the LEOs who must fly armed. The registration information and the certificate of successful completion from this collection will also provide TSA Headquarters personnel and airport personnel with the means to prevent unauthorized, or non-certified, LEOs from flying with a firearm unnecessarily and without proper training. The results of the training evaluation forms will assist TSA in determining whether this training and certification should be an annual process.

Issued in Arlington, Virginia, on January 14, 2005.
Lisa S. Dean,
Privacy Officer.

[FR Doc. 05-1404 Filed 1-25-05; 8:45 am]

BILLING CODE 4910-62-P